DEPARTMENT OF COMMERCE

National Oceanic and Atmospheric Administration

[I.D. 032703H]

Endangered Species; File No. 1190

AGENCY: National Marine Fisheries Service (NMFS), National Oceanic and Atmospheric Administration (NOAA), Commerce.

ACTION: Receipt of application for modification.

SUMMARY: Notice is hereby given that NMFS Southwest Region, 501 West Ocean Blvd., Long Beach, CA 90802-4213, has requested a modification to scientific research Permit No. 1190.

DATES: Written or telefaxed comments must be received on or before May 2, 2003.

ADDRESSES: The modification request and related documents are available for review upon written request or by appointment in the following office(s):

Permits, Conservation and Education Division, Office of Protected Resources, NMFS, 1315 East-West Highway, Room 13705, Silver Spring, MD 20910; phone (301) 713-2289; fax (301) 713-0376;

Southwest Region, NMFS, 501 West Ocean Blvd., Suite 4200, Long Beach, CA 90802-4213; phone (562)980-4001; fax (562)980-4018; and

Protected Species Coordinator, Pacific Area Office, NMFS, 1601 Kapiolani Blvd., Rm. 1110, Honolulu, HI 96814-4700; phone (808)973-2935; fax (808)973-2941;

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Carrie Hubard or Ruth Johnson, (301) 713-2289.

SUPPLEMENTARY INFORMATION: The subject modification to Permit No. 1190, issued on March 8, 1999, (64 FR 14432) and subsequently modified on September 21, 2000, (65 FR 58514) and February 20, 2001, (66 FR 14134), is requested under the authority of the Endangered Species Act of 1973, as amended (16 U.S.C. 1531 et seq.) and the regulations governing the taking, importing, and exporting of endangered and threatened species (50 CFR 222-226).

Permit No. 1190 authorizes the permit holder to document and evaluate the incidental take of sea turtles by the Hawaiian pelagic longline fishery. Trained observers placed on fishery vessels are authorized to examine, measure, weigh, biopsy sample, and tag up to 40 green (Chelonia mydas), 100 leatherback (Dermochelys coriacea), 600 loggerhead (Caretta caretta), 40 hawksbill (Eretmochelys imbricata), and 100 olive ridley (Lepidochelys olivacea) sea turtles annually. Of the sampled turtles, 50 hard-shelled turtles may have a transmitter attached. The incidental capture of the sea turtles by the fishery is covered by an incidental take statement in a biological opinion on the fishery, not by the scientific research permit. Permit No. 1190 expires on March 31, 2004. The permit holder requests authorization to expand observer programs in order to monitor all pelagic longline fisheries governed by Fisheries Management Plan for Pelagic Fisheries of the Western Pacific. The modification would allow observers to sample sea turtles in the manner described above from fisheries beyond that in Hawaiian waters, such as those in American Samoa, the Territory of Guam, and the Commonwealth of the Northern Marianas Islands. The permit holder also requests authority to import sea turtle samples as necessary. There is no change in the number of sea turtles that will be sampled annually or the type of sampling, only the geographic region.

Dated: March 27, 2003.
Stephen L. Leathery,
Chief, Permits, Conservation and Education Division, Office of Protected Resources, National Marine Fisheries Service.

[FR Doc. 03-7963 Filed 4-1-03; 8:45 am]

BILLING CODE 3510-22-S